DEPARTMENT OF HEALTH AND HUMAN SERVICES

Food and Drug Administration

[Docket No. FDA-2013-N-0093]

Agency Information Collection Activities; Proposed Collection; Comment Request; New Molecular Entity New Drug Applications and Original Biologics License Applications

AGENCY: Food and Drug Administration, HHS.

ACTION: Notice.

SUMMARY: The Food and Drug Administration (FDA, Agency, or we) is announcing an opportunity for public comment on the proposed collection of certain information by the Agency. Under the Paperwork Reduction Act of 1995 (PRA), Federal Agencies are required to publish notice in the Federal Register concerning each proposed collection of information, including each proposed extension of an existing collection of information, and to allow 60 days for public comment in response to the notice. This notice solicits comments on information collection associated with evaluating FDA's program for Enhanced Review Transparency and Communication (the Program) of new molecular entity new drug applications and original biologics license applications (BLAs).

DATES: Submit either electronic or written comments on the collection of information by May 20, 2022.

ADDRESSES: You may submit comments as follows. Please note that late, untimely filed comments will not be considered. Electronic comments must be submitted on or before May 20, 2022. The https://www.regulations.gov electronic filing system will accept comments until 11:59 p.m. Eastern Time at the end of May 20, 2022. Comments received by mail/hand delivery/courier (for written/paper submissions) will be considered timely if they are postmarked or the delivery service acceptance receipt is on or before that date.

Electronic Submissions

Submit electronic comments in the following way:

• Federal eRulemaking Portal: https://www.regulations.gov. Follow the instructions for submitting comments. Comments submitted electronically, including attachments, to https://www.regulations.gov will be posted to the docket unchanged. Because your comment will be made public, you are solely responsible for ensuring that your comment does not include any confidential information that you or a third party may not wish to be posted, such as medical information, your or anyone else's Social Security number, or confidential business information, such as a manufacturing process. Please note that if you include your name, contact information, or other information that identifies you in the body of your comments, that information will be posted on https://www.regulations.gov.

• If you want to submit a comment with confidential information that you do not wish to be made available to the public, submit the comment as a written/paper submission and in the manner detailed (see “Written/Paper Submissions” and “Instructions”).

Written/Paper Submissions

Submit written/paper submissions as follows:

• Mail/Hand Delivery/Courier (for written/paper submissions): Dockets Management Staff (HFA-305), Food and Drug Administration, 5630 Fishers Lane, Rm. 1061, Rockville, MD 20852.

• For written/paper comments submitted to the Dockets Management Staff, FDA will post your comment, as well as any attachments, except for information submitted, marked and identified, as confidential, if submitted as detailed in “Instructions.”

Instructions: All submissions received must include the Docket No. FDA-2013-N-0093 for “New Molecular Entity New Drug Applications and Original Biologics License Applications.” Received comments, those filed in a timely manner (see ADDRESSES), will be placed in the docket and, except for those submitted as “Confidential Submissions,” publicly viewable at https://www.regulations.gov or at the Dockets Management Staff between 9 a.m. and 4 p.m., Monday through Friday, 240-402-7500.

• Confidential Submissions—To submit a comment with confidential information that you do not wish to be made publicly available, submit your comments only as a written/paper submission. You should submit two copies total. One copy will include the information you claim to be confidential with a heading or cover note that states “THIS DOCUMENT CONTAINS CONFIDENTIAL INFORMATION.” The Agency will review this copy, including the claimed confidential information, in its consideration of comments. The second copy, which will have the claimed confidential information redacted/blacked out, will be available for public viewing and posted on https://www.regulations.gov. Submit both copies to the Dockets Management Staff. If you do not wish your name and contact information to be made publicly available, you can provide this information on the cover sheet and not in the body of your comments and you must identify this information as “confidential.” Any information marked as “confidential” will not be disclosed except in accordance with 21 CFR 10.20 and other applicable disclosure law. For more information about FDA's posting of comments to public dockets, see 80 FR 56469, September 18, 2015, or access the information at: https://www.govinfo.gov/content/pkg/FR-2015-09-18/pdf/2015-23389.pdf.

Docket: For access to the docket to read background documents or the electronic and written/paper comments received, go to https://www.regulations.gov and insert the docket number, found in brackets in the heading of this document, into the “Search” box and follow the prompts and/or go to the Dockets Management Staff, 5630 Fishers Lane, Rm. 1061, Rockville, MD 20852, 240-402-7500.

FOR FURTHER INFORMATION CONTACT: Domini Bean, Office of Operations, Food and Drug Administration, Three White Flint North, 10A-12M, 11601 Landsdown St., North Bethesda, MD 20852, 301-796-5733, PRAStaff@fda.hhs.gov.

SUPPLEMENTARY INFORMATION: Under the PRA (44 U.S.C. 3501-3521), Federal Agencies must obtain approval from the Office of Management and Budget (OMB) for each collection of information they conduct or sponsor. “Collection of information” is defined in 44 U.S.C. 3502(3) and 5 CFR 1320.3(c) and includes Agency requests or requirements that members of the public submit reports, keep records, or provide information to a third party. Section 3506(c)(2)(A) of the PRA (44 U.S.C. 3506(c)(2)(A)) requires Federal Agencies to provide a 60-day notice in the Federal Register concerning each proposed collection of information, including each proposed extension of an existing collection of information, before submitting the collection to OMB for approval. To comply with this requirement, FDA is publishing notice of the proposed collection of information set forth in this document.

With respect to the following collection of information, FDA invites comments on these topics: (1) Whether the proposed collection of information is necessary for the proper performance of FDA's functions, including whether the information will have practical utility; (2) the accuracy of FDA's estimate of the burden of the proposed collection of information, including the validity of the methodology and assumptions used; (3) ways to enhance the quality, utility, and clarity of the information to be collected; and (4) ways to minimize the burden of the collection of information on respondents, including through the use of automated collection techniques, when appropriate, and other forms of information technology.

Evaluation of the Program for Enhanced Review Transparency and Communication for New Molecular Entity New Drug Applications and Original 351(a) Biologics License Applications in Prescription Drug User Fee Acts and 351(k) Biologics License Applications in Biosimilar User Fee Acts

OMB Control Number 0910-0746—Extension

This information collection supports the evaluation of certain performance goals and procedures set forth in what is known as FDA's “goals letter” or “commitment letter” under the sixth authorization of the Prescription Drug User Fee Act (PDUFA VI) and the second authorization of the Biosimilar User Fee Act (BsUFA II). The goals letters are the result of Agency, industry, and public input, as Congressionally mandated under the applicable statutes. The documents entitled “PDUFA Reauthorization Performance Goals and Procedures Fiscal Years 2018 Through 2022,” and “Biosimilar Biological Product Reauthorization Performance Goals and Procedures Fiscal Years 2018 Through 2022” represent current performance goals agreed to by FDA in support of these respective programs. These documents are available at: https://www.fda.gov/downloads/ForIndustry/UserFees/PrescriptionDrugUserFee/UCM511438.pdf; and https://www.fda.gov/downloads/ForIndustry/UserFees/BiosimilarUserFeeActBsUFA/UCM521121.pdf. Work to reauthorize these authorities from Fiscal Years 2023 to 2027 is ongoing.

To implement certain performance goals, we established the Program to promote greater transparency and increased communication between the FDA review team and the applicant on the most innovative products that we review. The Program goals are intended to increase the efficiency and effectiveness of the first review cycle and decrease the number of review cycles necessary for approval so that patients have timely access to safe, effective, and high-quality new drugs and biologics. A key aspect of the extension of the Program to BsUFA II is to conduct an interim and final assessment that will evaluate how well the parameters of the Program have achieved the intended goals. Based on sponsors' responses and other data, on December 2, 2020, we published an interim report that is available on FDA's website at https://www.fda.gov/media/144130/download. We learned that under BsUFA II review, teams have been effective in enhancing review transparency and communication, with milestone meetings also enhancing the predictability of the review process. We have also adapted certain good practices identified through the Program, including providing pre-submission advice and templates; allocating time for applicant-identified discussion topics in late-cycle meetings where feasible; and recommending request response times of greater than 2 days for applicants with a global presence. We expect to continue these assessments.

We estimate the burden of this collection of information as follows:

Table 1—Estimated Annual Reporting Burden ¹
Activity | Number of respondents | Number of responses per respondent | Total annual responses | Average burden per response | Total hours
Pretest | 5 | 1 | 5 | 1.5 | 7.5
Interviews | 75 | 1 | 75 | 1.5 | 112.5
Total |  |  | 80 |  | 120
¹ There are no capital costs or operating and maintenance costs associated with this collection of information.

We plan interviews with up to three applicant representatives per each 351(k) BLA first-cycle action issued for applications reviewed under the Program. In addition, a pretest of the interview protocol with five respondents will also be conducted. Based on our prior experience with the Program and communications with the regulated industry, we assume that five applicant representatives will expend approximately 1.5 hours to complete the pretest, for a total of 7.5 burden hours. We further assume that up to 75 applicant representatives (up to 3 representatives for each of up to 25 applications) will participate in the post-action interviews each year and that each interview will last approximately 1.5 hours, for a total of 120 burden hours. Cumulatively, we estimate an overall decrease to the information collection, which corresponds to a decrease in submissions received by the Agency over the last 3 years.

Dated: March 14, 2022.
Lauren K. Roth,
Associate Commissioner for Policy.

[FR Doc. 2022-05814 Filed 3-18-22; 8:45 am]

BILLING CODE 4164-01-P